DEPARTMENT OF ENERGY

Federal Energy Regulatory Commission

[Docket No. RP00-84-001]

Kansas Pipeline Company; Notice of Refund Report

July 28, 2000.

Take notice that on April 27, 2000, Kansas Pipeline Company (KPC) tendered for filing an Excess Interruptible Revenue Refund Report.

KPC states that the refund report is being filed pursuant to the Commission's April 3, 2000 order directing KPC to refile its refund report within 30 days of the April 3 date to include a delineation of interest calculations on the subject refund and complete refund calculations and allocations.

KPC states that pursuant to the Commission's directives, KPC is submitting a delineation of interest calculations on the subject refund, and a Refund Report covering the period from May 11, 1998 to September 30, 1998.

KPC requests waiver of Section 24.5 of the General Terms and Conditions of KPC's tariff, that requires excess revenues to be credited against reservation charges, so that KPC can issue a lump-sum payment to its firm shipper Kansas Gas Service Company.

Any person desiring to protest said filing should file a protest with the Federal Energy Regulatory Commission, 888 First Street, NE., Washington, DC 20426, in accordance with Section 385.211 of the Commission's Rules and Regulations. All such protests must be filed on or before August 6, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-19600 Filed 8-2-00; 8:45 am]

BILLING CODE 6717-01-M